DEPARTMENT OF DEFENSE

Department of the Air Force

Global Positioning System Directorate (Gpsd); Notice of Meeting

ACTION: Notice of Meeting—Public Interface Control Working Group (ICWG) for Signals-in-Space (SiS) Documents (IS-GPS-200E, IS-GPS-705A, IS-GPS-800A).

SUMMARY: This notice informs the public that the Global Positioning Systems (GPS) Directorate will be hosting a Public Interface Control Working Group (ICWG) meeting for the NAVSTAR GPS public signals in space (SiS) documents; IS-GPS-200 (Navigation User Interfaces), IS-GPS-705 (User Segment L5 Interfaces), and IS-GPS-800 (User Segment L1C Interface). The purpose of this meeting will be twofold: (1) To resolve the comments against the public signals in space (SiS) documents with respect to the seven issues outlined below, and (2) to collect issues/comments outside the scope of the issues outlined below for analysis and possible integration into the following release. The ICWG is open to the general public. For those who would like to attend and participate in this ICWG meeting, we request that you register no later than July 11, 2011. Please send the registration to mark.marquez.ctr@losangeles.af.mil and provide your name, organization, telephone number, address, and country of citizenship.

Please note that the Directorate's primary focus will be the disposition of the comments against the following GPS related topics:

• Public Document Management (GPS III terminology and SSV group delay),

• Pseudorandom Noise (PRN) Expansion,

• User Range Accuracy (URA) Definition,

• Almanac Intervals,

• Pseudorange Parameters,

• Technical Note 36,

• Civil Navigation (CNAV) Durations.

All comments must be submitted in Comments Resolution Matrix (CRM) form. These forms along with the Was/Is Matrix, current versions of the documents, and the official meeting notice will be posted at: http://www.gps.gov/technical/ICWG/

Comments outside the scope of the above issues will be collected, catalogued, and discussed during the public ICWG as potential inclusions to the version following this release. If accepted, these changes will be processed through the formal Directorate change process for IS-GPS-200, IS-GPS-705, and IS-GPS-800.

Please provide them in the CRM form and submit to Tony Marquez by July 11, 2011.

FOR FURTHER INFORMATION CONTACT: Tony Marquez, Mark.marquez.ctr@losangeles.af.mil, (310) 416-8476; Captain Neil Petersen, neil.petersen@losangeles.af.mil, (310) 653-3499; Lieutenant Albert Yu, albert.yu@losangeles.af.mil, (310) 653-3207.

Bao-Anh Trinh,
Air Force Federal Register Liaison Officer.

[FR Doc. 2011-13638 Filed 6-1-11; 8:45 am]

BILLING CODE 5001-10-P